DEPARTMENT OF COMMERCE

International Trade Administration

[A-588-604 A-588-054]

Tapered Roller Bearings and Parts Thereof, Finished and Unfinished, From Japan, and Tapered Roller Bearings, Four Inches or Less in Outside Diameter, and Components Thereof, From Japan; Final Results of Antidumping Duty Administrative Reviews

AGENCY: Import Administration, International Trade Administration, Department of Commerce.

ACTION: Notice of final results of antidumping duty administrative reviews.

SUMMARY: On November 7, 2000, the Department of Commerce (the Department) published the preliminary results of the 1998-99 administrative reviews of the antidumping duty order on tapered roller bearings (TRBs) and parts thereof, finished and unfinished, from Japan (A-588-604), and the antidumping finding on TRBs, four inches or less in outside diameter, and components thereof, from Japan (A-588-054) (see Tapered Roller Bearings and Parts Thereof, Finished and Unfinished, from Japan, and Tapered Roller Bearings, Four Inches or Less in Outside Diameter, and Components Thereof, from Japan; Preliminary Results of Antidumping Duty Administrative Reviews, 65 FR 66711 (Preliminary Results). The review of the A-588-054 finding covers two manufacturers/exporters of the subject merchandise to the United States and the period October 1, 1998 through September 30, 1999. The review of the A-588-604 order covers three manufacturers/exporters and the period October 1, 1998, through September 30, 1999. Based upon our analysis of the comments received, we have made changes in the margin calculations. The final weighted-average dumping margins for the reviewed firms are listed below in the section entitled “Final Results of Reviews.”

EFFECTIVE DATE: March 15, 2001.

FOR FURTHER INFORMATION CONTACT: Deborah Scott (NTN Corporation (NTN) and NSK Ltd. (NSK)), Patricia Tran (Koyo Seiko Co., Ltd. (Koyo)), or Robert James, Office of AD/CVD Enforcement III, Office 8, Import Administration, International Trade Administration, U.S. Department of Commerce, 14th Street and Constitution Avenue, NW, Washington, DC 20230, telephone: (202) 482-2657, (202) 482-1121, or (202) 482-0649, respectively.

SUPPLEMENTARY INFORMATION:

Applicable Statute and Regulations

Unless otherwise indicated, all citations to the Tariff Act of 1930, as amended (the Tariff Act), are in reference to the provisions effective January 1, 1995, the effective date of the amendments made to the Tariff Act by the Uruguay Round Agreements Act (URAA). In addition, unless otherwise indicated, all citations to the Department's regulations refer to 19 CFR part 351 (April 1, 2000).

Background

On November 7, 2000, we published in the Federal Register the preliminary results of the 1998-99 administrative reviews of the antidumping duty order and finding on TRBs from Japan (see Preliminary Results at 66711). We gave interested parties an opportunity to comment on the Preliminary Results. At the request of certain interested parties, we held a public hearing on January 24, 2001. The Department has now completed these reviews in accordance with section 751 of the Tariff Act.

Scope of the Reviews

Imports covered by the A-588-054 finding are sales or entries of TRBs, four inches or less in outside diameter when assembled, including inner race or cone assemblies and outer races or cups, sold either as a unit or separately. This merchandise is classified under Harmonized Tariff Schedule (HTS) item numbers 8482.20.00 and 8482.99.15.

Imports covered by the A-588-604 order include TRBs and parts thereof, finished and unfinished, which are flange, take-up cartridge, and hanger units incorporating TRBs, and roller housings (except pillow blocks) incorporating tapered rollers, with or without spindles, whether or not for automotive use. Products subject to the A-588-054 finding are not included within the scope of this order, except those manufactured by NTN. This merchandise is currently classifiable under HTS item numbers 8482.20.00, 8482.91.00, 8482.99.15, 8482.99.45, 8483.20.40, 8483.20.80, 8483.30.80, 8483.90.20, 8483.90.30, and 8483.90.80. The HTS item numbers listed above for both the A-588-054 finding and the A-588-604 order are provided for convenience and Customs purposes. The written description remains dispositive.

The period for each 1998-99 review is October 1, 1998, through September 30, 1999. The review of the A-588-054 case covers TRB sales by two manufacturers/exporters (Koyo and NSK). The review of the A-588-604 case covers TRBs sales by three manufacturers/exporters (Koyo, NTN, and NSK).

Analysis of Comments Received

All issues raised in the case and rebuttal briefs by parties to this administrative review are addressed in the “Issues and Decision Memorandum for the 1998-1999 Administrative Reviews of Tapered Roller Bearings and Parts Thereof, Finished and Unfinished, from Japan, and Tapered Roller Bearings, Four Inches or Less in Outside Diameter, and Components Thereof, from Japan (A-588-604/A-588-054); Final Results of Antidumping Duty Administrative Reviews” (Decision Memorandum) from Joseph A. Spetrini, Deputy Assistant Secretary, Import Administration, to Bernard T. Carreau, fulfilling the duties of Assistant Secretary for Import Administration, dated March 7, 2001, which is hereby adopted by this notice. A list of the issues which parties have raised and to which we have responded, all of which are in the Decision Memorandum, is attached to this notice as an Appendix. Parties can find a complete discussion of all issues raised in this review and the corresponding recommendations in this public memorandum, which is on file in the Central Records Unit, room B-099 of the Main Department building. In addition, a complete version of the Decision Memorandum can be accessed directly on the World Wide Web at http://ia.ita.doc.gov. The paper copy and electronic version of the Decision Memorandum are identical in content.

Use of Facts Available

For a discussion of comments on our application of facts available, see the “Facts Available/Further Manufacturing” section of the Decision Memorandum, which is on file in B-099 and available on the Web at http://ia.ita.doc.gov. See also Preliminary Results at 66712.

Changes Since the Preliminary Results

Based on our analysis of comments received, we have made certain changes in the margin calculations. We have also corrected certain programming and clerical errors in our preliminary results, where applicable. Any alleged programming or clerical errors with which we do not agree are discussed in the relevant sections of the Decision Memorandum, accessible in room B-099 and on the Web at http://ia.ita.doc.gov.

Final Results of Reviews

We determine that the following percentage weighted-average margins exist for the period October 1, 1998 through September 30, 1999:

Manufacturer/exporter | Margin (percent)
For the A-588-054 case:
Koyo Seiko | 14.86
NSK | 16.60
For the A-588-604 case:
Koyo Seiko | 17.94
NSK | 7.75
NTN | 13.38

The Department shall determine, and Customs shall assess, antidumping duties on all appropriate entries. In accordance with 19 CFR 351.212(b), we have calculated exporter/importer-specific assessment rates. With respect to both export price and constructed export price sales, we divided the total dumping margins for the reviewed sales by the total entered value of those reviewed sales for each importer. We will direct Customs to assess the resulting percentage margins against the entered Customs values for the subject merchandise on each of that importer's entries under the relevant proceeding during the review period.

Cash Deposit Requirements

As a result of a five-year (“sunset”) review, the Department has revoked the antidumping finding (A-588-054) and duty order (A-588-604) on TRBs from Japan. The effective date of revocation is January 1, 2000. See Revocation of Antidumping Duty Orders on Certain Bearings from Hungary, Japan, Romania, Sweden, France, Germany, Italy, and the United Kingdom, 65 FR 42667 (July 11, 2000). Therefore, there are no cash deposit requirements for shipments of TRBs from Japan entered, or withdrawn from warehouse, for consumption on or after the date of publication of this notice of final results of administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the disposition of proprietary information disclosed under APO in accordance with 19 CFR 351.306. Timely written notification of the return or destruction of APO materials, or conversion to judicial protective order, is hereby requested. Failure to comply with the regulations and terms of an APO is a sanctionable violation.

We are issuing and publishing this determination and notice in accordance with sections 751(a)(1) and 771(i) of the Tariff Act and 19 CFR 351.213.

Dated: March 7, 2001.
Timothy J. Hauser,
Acting Under Secretary for International Trade.

Appendix 1—Issues in Decision Memorandum

Comments and Responses

1. Facts Available/Further Manufacturing

2. Adjustments to Normal Value

3. Adjustments to United States Price

4. Cost of Production and Constructed Value

5. Level of Trade

6. Arm's-length Test

7. Sales Outside the Ordinary Course of Trade

8. Model Match

9. Margin Calculations/Assessment Rates

10. Ministerial Errors

[FR Doc. 01-6470 Filed 3-14-01; 8:45 am]

BILLING CODE 3510-DS-P